DEPARTMENT OF LABOR

Employment and Training Administration

Workforce Investment Act; Native American Employment and Training Council, Meeting

AGENCY: Employment and Training Administration, U.S. Department of Labor.

ACTION: Notice of meeting.

SUMMARY: Pursuant to Section 10(a)(2) of the Federal Advisory Committee Act (FACA) (Public Law 92-463), as amended, and Section 166(h)(4) of the Workforce Investment Act (WIA) [29 U.S.C. 2911(h)(4)], notice is hereby given of the next meeting of the Native American Employment and Training Council (Council), as constituted under WIA.

DATES: The meeting will begin at 9:00 a.m. (Eastern Standard Time) on Wednesday, December 17, 2014, and continue until 5:00 p.m., that day. The meeting will reconvene at 9:00 a.m. on Thursday, December 18, 2014, and adjourn at 5:00 p.m., that day. The period from 3:30 p.m. to 5:30 p.m., on December 17, 2014, will be reserved for participation and comment by members of the public.

ADDRESSES: The meeting will be held at the Bureau of Labor Statistics, Postal Square Building, 2 Massachusetts Ave. NE., Washington DC 20212, in the conference center, Rooms 7 and 8.

SUPPLEMENTARY INFORMATION: The meeting will be open to the public. Members of the public not present may submit a written statement on or before December 10, 2014, to be included in the record of the meeting. Statements are to be submitted to Ms. Athena R. Brown, Designated Federal Officer (DFO), U.S. Department of Labor, 200 Constitution Avenue NW., Room S-4209, Washington, DC 20210. Persons who need special accommodations should contact Mr. Craig Lewis at (202) 693-3384, at least two business days before the meeting. The formal agenda will focus on the following topics: (1) U.S. Department of Labor, Employment and Training Administration Update and the Workforce Innovation and Opportunity Act of 2014; (2) Training and Technical Assistance; (3) Council and Workgroup Updates and Recommendations; (4) New Business and Next Steps; and (5) Public Comment.

FOR FURTHER INFORMATION CONTACT: Ms. Athena R. Brown, DFO, Division of Indian and Native American Programs, Employment and Training Administration, U.S. Department of Labor, Room S-4209, 200 Constitution Avenue NW., Washington, DC 20210. Telephone number (202) 693-3737 (VOICE) (this is not a toll-free number).

Portia Wu,
Assistant Secretary, Employment and Training Administration.

[FR Doc. 2014-28566 Filed 12-4-14; 8:45 am]

BILLING CODE 4501-FR-P